DEPARTMENT OF THE INTERIOR

National Park Service

[NPS-WASO-CONC-10245; 2410-OYC]

Notice of Extension of Concession Contract

AGENCY: National Park Service, Interior.

ACTION: Notice.

SUMMARY: Pursuant to the terms of the listed concession contract, the National Park Service hereby gives public notice that it intends to extend the concession contract listed below for a period not-to-exceed 14 months from the date of contract expiration.

DATES: Effective Date: November 1, 2013.

SUPPLEMENTARY INFORMATION: The contract listed below will expire by its terms on October 31, 2013. Pursuant to 36 CFR 51.23, the National Park Service has determined that the proposed short-term extension is necessary to avoid interruption of visitor services and has taken all reasonable and appropriate steps to consider alternatives to avoid such interruption.

Conc ID No. | Concessioner name | Park
SEKI004-98 | Delaware North Companies Parks and Resorts at Sequoia, Inc | Sequoia National Park.

FOR FURTHER INFORMATION CONTACT: Jo A. Pendry, Chief, Commercial Services Program, National Park Service, 1201 Eye Street NW., 11th Floor, Washington, DC 20005, Telephone (202) 513-7156.

Dated: May 1, 2012.
Lena McDowall,
Associate Director, Business Services.

[FR Doc. 2012-15534 Filed 6-25-12; 8:45 am]

BILLING CODE 4310-53-P